DEPARTMENT OF THE INTERIOR

National Park Service

[NPS-WASO-NAGPRA-15707; PPWOCRADN0-PCU00RP14.R50000]

Notice of Inventory Completion: Alutiiq Museum and Archaeological Repository, Kodiak, AK

AGENCY: National Park Service, Interior.

ACTION: Notice.

SUMMARY: The Alutiiq Museum and Archaeological Repository has completed an inventory of human remains, in consultation with the appropriate Indian tribes or Native Hawaiian organizations, and has determined that there is a cultural affiliation between the human remains and present-day Indian tribes or Native Hawaiian organizations. Lineal descendants or representatives of any Indian tribe or Native Hawaiian organization not identified in this notice that wish to request transfer of control of these human remains should submit a written request to the Alutiiq Museum and Archaeological Repository. If no additional requestors come forward, transfer of control of the human remains to the lineal descendants, Indian tribes, or Native Hawaiian organizations stated in this notice may proceed.

DATES: Lineal descendants or representatives of any Indian tribe or Native Hawaiian organization not identified in this notice that wish to request transfer of control of these human remains should submit a written request with information in support of the request to the Alutiiq Museum and Archaeological Repository at the address in this notice by July 24, 2014.

ADDRESSES: Dr. Alisha Drabek, Executive Director, Alutiiq Museum and Archaeological Repository, 215 Mission Road, Suite 101, Kodiak, AK 99615, telephone (907) 486-7004.

SUPPLEMENTARY INFORMATION: Notice is here given in accordance with the Native American Graves Protection and Repatriation Act (NAGPRA), 25 U.S.C. 3003, of the completion of an inventory of human remains in the possession of the Alutiiq Museum and Archaeological Repository, Kodiak, AK. The human remains were removed from the northern half of the Kodiak Archipelago, AK.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Alutiiq Museum and Archaeological Repository professional staff in consultation with representatives of the Native Village of Afognak, Native Village of Ouzinkie, Native Village of Port Lions, the Sun'aq Tribe of Kodiak (previously listed as the Shoonaq' Tribe of Kodiak), and the Tangirnaq Native Village (formerly Lesnoi Village (aka Woody Island)).

History and Description of the Remains

At an unknown date in the 1970s, human remains representing, at minimum, one individual were removed from the northern half of the Kodiak Archipelago, AK. The human remains were removed by a researcher who participated in excavations in the 1970s in the Kodiak Archipelago, including Afognak Island and Uganik Bay. Ms. Judith Grossman of Cambridge, MA, sent the human remains to the Alutiiq Museum on September 12, 2011, to keep the identity of the original collector anonymous. The human remains include a human cranium wrapped in a modern sea otter skin and represent an adult of possibly prehistoric age. No known individuals were identified. No associated funerary objects are present.

An examination of the human remains shows humic staining on the bones and worn dentition with no evidence of modern dentistry. Archeological data indicate that modern Alutiiqs evolved from societies of the Kodiak region, and can trace their ancestry back over 7,500 years in the region. The human remains are most closely affiliated with the modern Kodiak Alutiiq people, represented today by the Native Village of Afognak, Native Village of Ouzinkie, Native Village of Port Lions, the Sun'aq Tribe of Kodiak (previously listed as the Shoonaq' Tribe of Kodiak), and the Tangirnaq Native Village (formerly Lesnoi Village (aka Woody Island)).

Determinations Made By the Alutiiq Museum and Archaeological Repository

Officials of the Alutiiq Museum and Archaeological Repository have determined that:

• Pursuant to 25 U.S.C. 3001(9), the human remains described in this notice represent the physical remains of one individual of Native American ancestry.

• Pursuant to 25 U.S.C. 3001(2), there is a relationship of shared group identity that can be reasonably traced between the Native American human remains and the Native Village of Afognak, Native Village of Ouzinkie, Native Village of Port Lions, the Sun'aq Tribe of Kodiak (previously listed as the Shoonaq' Tribe of Kodiak), and the Tangirnaq Native Village (formerly Lesnoi Village (aka Woody Island)).

Additional Requestors and Disposition

Lineal descendants or representatives of any Indian tribe or Native Hawaiian organization not identified in this notice that wish to request transfer of control of these human remains should submit a written request with information in support of the request to Dr. Alisha Drabek, Executive Director, Alutiiq Museum and Archaeological Repository, 215 Mission Road, Suite 101, Kodiak, AK 99615, telephone (907) 486-7004, by July 24, 2014. After that date, if no additional requestors have come forward, transfer of control of the human remains to the Native Village of Afognak, Native Village of Ouzinkie, Native Village of Port Lions, the Sun'aq Tribe of Kodiak (previously listed as the Shoonaq' Tribe of Kodiak), and the Tangirnaq Native Village (formerly Lesnoi Village (aka Woody Island)) may proceed.

The Alutiiq Museum and Archaeological Repository is responsible for notifying the Native Village of Afognak, Native Village of Ouzinkie, Native Village of Port Lions, the Sun'aq Tribe of Kodiak (previously listed as the Shoonaq' Tribe of Kodiak), and the Tangirnaq Native Village (formerly Lesnoi Village (aka Woody Island)) that this notice has been published.

Dated: April 30, 2014.
David Tarler,
Acting Manager, National NAGPRA Program.

[FR Doc. 2014-14752 Filed 6-23-14; 8:45 am]

BILLING CODE 4312-50-P